DEPARTMENT OF STATE

[Public Notice 4336]

Bureau of Democracy, Human Rights and Labor Request for Grant Proposals: Human Rights and Democratization Initiatives in the Middle East and North Africa

SUMMARY: The Office for the Promotion of Human Rights and Democracy of the Bureau of Democracy, Human Rights and Labor (DRL) announces an open competition for one or more assistance awards. Organizations may submit grant proposals that address programs and activities that foster democracy, human rights, press freedoms, women's political development and the rule of law in countries with a significant Muslim population in the Middle East and North Africa, and where such programs and activities would be important to United States efforts to respond to, deter, or prevent acts of international terrorism.

Awards are contingent upon the availability of funds. Funding may be available at a level of up to $4,000,000 under the Economic Support Funds through the Bureau's Human Rights and Democracy Fund (HRDF) for projects that address Bureau objectives in predominantly Muslim countries in this region. The Bureau anticipates awarding between 4-10 grants in amounts of $250,000-$1,000,000.

Background: The Human Rights and Democracy Fund (HRDF) supports innovative, cutting-edge programs which uphold democratic principles, support and strengthen democratic institutions, promote human rights, and build civil society in countries and regions of the world that are geo-strategically important to the U.S. HRDF funds projects that have an immediate impact but that have potential for continued funding beyond HRDF resources. HRDF projects must not duplicate or simply add to efforts by other entities.

Additional Information

Proposed programs must address at least one of the following specific themes and priority countries. Regional programs that include priority countries are also welcome:

(1) Support to civil society, with emphasis on political actors and advocacy groups that involve women: Egypt, Jordan, Bahrain, Algeria, Oman, Saudi Arabia, Qatar, Iran.

(2) Access to information through freedom of the press, freedom of speech, and enhanced public awareness of human rights and democracy issues: Saudi Arabia, Egypt, Jordan, Morocco, Tunisia.

(3) Elections: strengthening institutional capacity, training political parties, NGOs and newly elected officials, raising civic awareness: Qatar, Oman, Bahrain, Jordan, Morocco.

(4) Rule of law with emphasis on civil liberties, governmental accountability, and administration of justice: Egypt, Jordan, Morocco, Tunisia.

Project Criteria

• Project implementation should begin no earlier than late summer 2003.

• Projects should not exceed two years in duration. Shorter projects with more immediate outcomes may receive preference.

• Projects must take place in-country or in a third country. U.S.-based or exchange projects are discouraged.

• Projects that have a strong academic or research focus will not be highly considered. DRL will not fund health, technology, environmental, or scientific projects unless they have an explicit democracy, human rights, or rule of law component. Conferences likewise will not be highly considered.

• Projects should include a follow-on plan that extends beyond the grant period ensuring that Bureau-supported programs are not isolated events.

In order to avoid the duplication of activities and programs, proposals should also indicate knowledge of similar projects being conducted in the region and how the submitted proposal will complement them.

Applicant/Organization Criteria

Organizations applying for a grant should meet the following criteria:

• Be a U.S. public or private non-profit organization meeting the provisions described in Internal Revenue Code section 26 U.S.C. 501(c)(3).

• Have demonstrated experience administering successful projects in the region in which it is proposing to administer a project.

• Have existing, or the capacity to develop, active partnerships with in-country organization(s).

Note: Organizations are welcome to submit more than one proposal, but should know that DRL wishes to reach out to as many different organizations as possible with its limited funds.

Budget Guidelines

Please refer to the Proposal Submission Instructions for complete budget guidelines and formatting instructions.

Deadline for Proposals

All proposals must be received at the Bureau of Democracy, Human Rights and Labor by 5 p.m. Eastern Standard Time (EST) on Wednesday, May 14, 2003. Please refer to the PSI for specific delivery instructions.

Review Process

The Bureau will acknowledge receipt of all proposals and will review them for eligibility. Proposals will be deemed ineligible if they do not fully adhere to the guidelines stated herein and in the PSI. Eligible proposals will be subject to compliance with Federal and Bureau regulations and guidelines and forwarded to Bureau grant panels for advisory review. Proposals may also be reviewed by the Office of the Legal Adviser or by other Department elements.

Final technical authority for assistance awards resides with the Office of Acquisition Management's Grants Officer.

Review Criteria

Eligible applications will be competitively reviewed according to the criteria stated below. Fuller explanation of these criteria are included in the PSI. These criteria are not rank ordered and all carry equal weight in the proposal evaluation: quality of the program idea; program planning and ability to achieve program objectives; multiplier effect/impact; institution's record/ability/capacity; cost-effectiveness.

FOR FURTHER INFORMATION, CONTACT: The Office for the Promotion of Human Rights and Democracy of the Bureau of Democracy, Human Rights and Labor, DRL/PHD. Please specify Sondra Govatski (202)-647-9734 on all inquiries and correspondence.

Please read the complete Federal Register announcement before sending inquiries or submitting proposals. Once the RFP deadline has passed, Bureau staff may not discuss this competition with applicants until the proposal review process has been completed.

To Download A Solicitation Package Via Internet

The Solicitation Package includes this RFP plus the Proposal Submission Instructions (PSI) which contains detailed award criteria, specific budget instructions, and standard guidelines for proposal preparation. The entire RFP and PSI may be downloaded from the Bureau's Web site at http://www.state.gov/g/drl/.

Notice

The terms and conditions published in this RFP are binding and may not be modified by any Bureau representative.

Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 7, 2003.
Lorne W. Craner,
Assistant Secretary for Democracy, Human Rights and Labor, Department of State.

[FR Doc. 03-9055 Filed 4-11-03; 8:45 am]

BILLING CODE 4710-18-P